DEPARTMENT OF THE INTERIOR

Fish and Wildlife Service

Proposed Information Collection; OMB Control Number 1018-0007; Annual Certification of Hunting and Sport Fishing Licenses Issued, 50 CFR 80.10f

AGENCY: Fish and Wildlife Service, Interior.

ACTION: Notice; request for comments.

SUMMARY: We (Fish and Wildlife Service) will ask the Office of Management and Budget (OMB) to renew approval for the information collection request (ICR) described below. As required by the Paperwork Reduction Act of 1995 and as part of our continuing efforts to reduce paperwork and respondent burden, we invite the general public and other Federal agencies to take this opportunity to comment on this information collection.

DATES: You must submit comments on or before September 22, 2006.

ADDRESSES: Send your comments on the ICR to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request additional information about this ICR, contact Hope Grey at one of the addresses above or by telephone at (703) 358-2482.

SUPPLEMENTARY INFORMATION:

I. Abstract

The Federal Aid in Wildlife Restoration Act (16 U.S.C. 669-669i) and the Federal Aid in Sport Fish Restoration Act (16 U.S.C. 777-777k) provide Federal assistance to the States for management and restoration of fish and wildlife. These Acts and our regulations at 50 CFR 80.10 require that States and territories annually certify their hunting and fishing license sales. States and territories that receive grants under these Acts use FWS Forms 3-154A (Part I—Certification) and 3-155B (Part II—Summary of Hunting and Sport Fishing Licenses Issues) to certify the number and amount of hunting and fishing license sales. We use the information collected to determine apportionment and distribution of funds according to the formula specified in each Act.

II. Data

OMB Control Number: 1018-0007.

Title: Annual Certification of Hunting and Sport Fishing Licenses Issued, 50 CFR 80.10.

Service Form Number(s): 3-154a and 3-154b.

Type of Request: Revision of currently approved collection.

Affected Public: States and territories (Commonwealth of Puerto Rico, District of Columbia, Commonwealth of the Northern Mariana Islands, Guam, Virgin Islands, and American Samoa).

Respondent's Obligation: Required to obtain or retain benefits.

Estimated Annual Number of Respondents: 56.

Frequency of Collection: Annually.

Estimated Number of Responses: 112 (one per respondent for each form).

Estimated Time Per Response: Average of 12 hours for FWS Form 3-154A and 20 hours for FWS Form 3-154B.

Estimated Total Annual Burden Hours: 1,792.

Estimated Total Annual Cost to Public: $44,800.

III. Request for Comments

We invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents.

Comments submitted in response to this notice are a matter of public record. We will include and/or summarize each comment in our request to OMB to renew approval for this information collection.

Dated: July 5, 2006.
Hope Grey,
Information Collection Clearance Officer, Fish and Wildlife Service.

[FR Doc. E6-11647 Filed 7-21-06; 8:45 am]

BILLING CODE 4310-55-P